DEPARTMENT OF COMMERCE

International Trade Administration

University of Missouri—Kansas City; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-001. Applicant: University of Missouri, Kansas City, MO 64108. Instrument: (2) each Scanning Acoustic Microscopes, Models SAM 2000 and WINSAM 100. Manufacturer: Kramer Scientific Instruments GmbH, Germany. Intended Use: See notice at 68 FR 6415, February 7, 2003.

Comments: None received. Decision: Approved. No instrument of equivalent scientific value to the foreign instrument, for such purposes as it is intended to be used, is being manufactured in the United States. Reasons: The foreign instrument provides: (1) Resolution to 0.1 μm, (2) operation at frequencies to 2 GHz and (3) analysis of surface waves by the V(z)-curve technique for acoustic subsurface analysis of novel dental materials and composites. The National Institutes of Health advises in its memorandum of January 29, 2003 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-6183 Filed 3-13-03; 8:45 am]

BILLING CODE 3510-DS-P